DEPARTMENT OF THE INTERIOR

Bureau of Land Management

[OR-014-6333-NY-HPNL; HAG-06-0041]

Emergency Closure of Public Lands and BLM-Administered Roads; Klamath County, OR

AGENCY: Bureau of Land Management, Interior.

ACTION: Emergency closure of public lands and BLM-administered access roads in Klamath County, Oregon.

SUMMARY: Notice is hereby given that certain public lands and access roads thereon in Klamath County, Oregon, are closed to all entry or use by all members of the public. The closure is made under the authority of 43 CFR 8364.1. The public lands affected by this emergency closure are specifically identified as follows:

Willamette Meridian, Oregon

T. 40 S., R. 6 E.

Section 1 S½, Section 12 All lands west of the east bank of the Klamath River, Section 13 All lands west of the east bank of the Klamath River.

The following persons, operating within the scope of their official duties, are exempt from the provisions of this closure order: PacifiCorp Employees, its contractors and subcontractors, Bureau of Land Management employees, state, local, and Federal law enforcement and fire protection personnel, and employees of the Federal Energy Regulatory Commission. Access by additional parties may be allowed, but must be approved in advance in writing by the Authorized Officer.

Any person who fails to comply with the provisions of this closure order may be subject to the penalties provided in 43 CFR 8360.0-7, which include a fine not to exceed $1,000 and/or imprisonment not to exceed 12 months, as well as the penalties provided under Oregon State law.

The public lands and roads closed to public use under this order will be posted with signs at points of public access.

The purpose of this emergency closure is to protect persons from potential harm from rock slides, unstable slopes, heavy equipment operation on single lane roads, and construction activities.

DATES: This closure is effective from the date this closure is signed by the Authorized Officer and will expire when repair of the J.C. Boyle power plant flume is completed.

ADDRESSES: Copies of the closure order and maps showing the location of the closed lands and roads are available from the Klamath Falls Resource Area Office, 2795 Anderson Avenue, Building 25, Klamath Falls, Oregon 97603.

FOR FURTHER INFORMATION CONTACT: Jon Raby, Manager, Klamath Falls Resource Area Office, at (541) 883-6916.

Dated: December 6, 2005.
Jon Raby,
Manager, Klamath Falls Resource Area.

[FR Doc. E6-3237 Filed 3-7-06; 8:45 am]

BILLING CODE 4310-33-P